ENVIRONMENTAL PROTECTION AGENCY

EPA-HQ-OAR-2016-0546; FRL-9969-55-OAR]

Proposed Information Collection Request; Comment Request; Aircraft Engines—Supplemental Information Related to Exhaust Emissions (Renewal)

AGENCY: Environmental Protection Agency (EPA).

ACTION: Notice.

SUMMARY: The EPA is planning to submit an information collection request (ICR), “Aircraft Engines—Supplemental Information Related to Exhaust Emissions (Renewal)” (EPA ICR No. 2427.04, OMB Control No. 2060-0680), to the Office of Management and Budget (OMB) for review and approval in accordance with the Paperwork Reduction Act (PRA). As the first step in the process, the EPA is soliciting public comments on specific aspects of the proposed renewal of, and amendment to, an existing information collection as described below. The current ICR is approved through September 30, 2018. An agency may not conduct or sponsor and a person is not required to respond to a collection of information unless it displays a currently valid OMB control number.

DATES: Comments must be submitted on or before December 15, 2017.

ADDRESSES: Submit your comments, referencing Docket ID No. EPA-HQ-OAR-2016-0546 online using www.regulations.gov (our preferred method), by email to a-and-r-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Cullen Leggett, Office of Transportation and Air Quality, Office of Air and Radiation, Environmental Protection Agency; telephone number: (734) 214-4514; fax number: (734) 214-4816; email address: leggett.cullen@epa.gov.

SUPPLEMENTARY INFORMATION: Supporting documents which explain in detail the information that the EPA will be collecting are available in the public docket for this renewal of an existing ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond,

including through the use of appropriate automated electronic, mechanical, or other technological collection techniques or other forms of information technology, e.g., permitting electronic submission of responses. The EPA will consider the comments received and revise the ICR as appropriate. The final ICR package will then be submitted to OMB for review and approval. At that time, the EPA will issue another Federal Register notice to announce the submission of the ICR to OMB and the opportunity to submit additional comments to OMB.

Abstract: Using its Clean Air Act authority in sections 231 and 114, 42 U.S.C. 7571 and 7414, the EPA is proposing to renew the existing data collection requirement for new aircraft engines to report emissions information, production volumes, and technical parameters. Also, at this time, the EPA is proposing to amend this existing requirement to collect data on non-volatile particulate matter (nvPM) emissions from some classes of aircraft engines.

Form Numbers: EPA Form Number: 5900-223 (proposed revision).

Respondents/affected entities: Respondents affected by this action are the manufacturers of aircraft gas turbine engines. Manufacturers producing aircraft gas turbine engines with a sea level static thrust greater than 26.7 kN will be subject to the new requirement for nvPM reporting. Table 1 below presents some examples of potentially affected entities according to NAICS code. Table 1 is not intended to be exhaustive, but rather provides a guide for respondents regarding facilities likely to be affected by this amendment to and renewal of the existing ICR.

Table 1—Examples of Potentially Affected Entities by Category
Category | NAICS code | Example of potentially affected entities
| 336412 | Aircraft Engine and Engine Parts Manufacturing.

Respondent's obligation to respond: Mandatory (pursuant to section 114 of the Clean Air Act).

Estimated number of respondents: 7 (total).

Frequency of response: Annual.

Total estimated response burden: 502 hours (per year). Burden is defined at 5 CFR 1320.03(b).

Total estimated cost: $129,597 (total).

Dated: October 5, 2017.
Christopher Grundler,
Director, Office of Transportation and Air Quality, Office of Air and Radiation.

[FR Doc. 2017-22355 Filed 10-13-17; 8:45 am]

BILLING CODE 6560-50-P